DEPARTMENT OF TRANSPORTATION

Federal Aviation Administration

Government/Industry Aeronautical Charting Forum Meeting

AGENCY: Federal Aviation Administration (FAA), DOT.

ACTION: Notice of public meeting.

SUMMARY: This notice announces the bi-annual meeting of the Federal Aviation Administration's Government/Industry Aeronautical Charting Forum (ACF) to discuss informational content and design of aeronautical charts and related products, as well as instrument flight procedures policy and development criteria.

DATES: The ACF is separated into two distinct groups. The Instrument Procedures Group will meet October 20 and 21, 2003 from 9 a.m. to 4:30 p.m. The Charting Group will meet October 22 and 23, 2003 from 9 a.m. to 4:30 p.m.

ADDRESSES: The meeting will be held at the FAA National Aeronautical Charting Office, AVN-500, 1325 East-West Highway, Silver Spring, SSMC #2, Room 2358, MD 20910.

FOR FURTHER INFORMATION CONTACT: For information relating to the Instrument Procedures Group, contact Thomas E. Schneider, Flight Procedures Standards Branch, AFS-420, 6500 South MacArthur Blvd, PO Box 25082, Oklahoma City, OK 73125; telephone (405) 954-5852; fax: (405) 954-2528. For information relating to the Charting Group, contact Richard V. Powell, FAA, Air Traffic Airspace Management, ATA-100, 800 Independence Avenue, SW., Washington, DC 20591; telephone: (202) 267-8790, fax: (202) 493-4266.

SUPPLEMENTARY INFORMATION: Pursuant to section 10(a)(2) of the Federal Advisory Committee Act (Pub. L. 92-463; 5 U.S.C. App. II), notice is hereby given of a meeting of the Government/Industry Aeronautical Charting Forum to be held from October 20-23, 2003, from 9 a.m. to 4:30 p.m. at the National Aeronautical Charting Office, AVN-500, 1325 East-West Highway, SSMC 2, Room 2358, Silver Spring, MD 20910.

The Instrument Procedures Group agenda will include briefings and discussions on recommendations regarding pilot procedures for instrument flight, as well as criteria, design, and developmental policy for instrument approach and departure procedures.

The Charting Group agenda will include briefings and discussions regarding recommendations regarding aeronautical charting specifications, flight information products, as well as new aeronautical charting and air traffic control initiatives.

Attendance is open to the interested public, but will be limited to the space available.

The public must make arrangements by October 3, 2003, to present oral statements at the meeting. The public may present written statements and/or new agenda items to the committee providing a copy to the person listed in the FOR FURTHER INFORMATION CONTACT section by October 3, 2003. Public statements will only be considered if time permits.

Issued in Washington, DC, on September 22, 2003.
Richard V. Powell,
Chair, Government/Industry Aeronautical Charting Forum.

[FR Doc. 03-24430 Filed 9-25-03; 8:45 am]

BILLING CODE 4910-13-M